DEPARTMENT OF ENERGY

Federal Energy Regulatory Commission

[Project No. 14680-002]

Water Street Land, LLC; Notice of Application Accepted for Filing With the Commission, Intent To Waive Scoping, Soliciting Motions To Intervene and Protests, Ready for Environmental Analysis, and Soliciting Comments, Terms and Conditions, and Recommendations, and Establishing an Expedited Schedule for Processing

Take notice that the following hydroelectric application has been filed with the Commission and is available for public inspection.

a. Type of Application: Exemption from Licensing

b. Project No.: 14680-002

c. Date filed: July 13, 2016

d. Applicant: Water Street Land, LLC

e. Name of Project: Natick Pond Dam Hydroelectric Project

f. Location: On the Pawtuxet River, in the Towns of Warwick and West Warwick, Kent County, Rhode Island. No federal lands would be occupied by project works or located within the project boundary.

g. Filed Pursuant to: Public Utility Regulatory Policies Act of 1978, 16 U.S.C. 2705, 2708 (2012), amended by the Hydropower Regulatory Efficiency Act of 2013, Public Law 113-23, 127 Stat. 493 (2013).

h. Applicant Contact: Mr. Rob Cioe, Water Street Land, LLC, P.O. Box 358, North Kingstown, RI 02852; (480) 797-3077.

i. FERC Contact: John Ramer, (202) 502-8969, or email at john.ramer@ferc.gov.

j. Deadline for filing motions to intervene and protests, comments, terms and conditions, and recommendations: Due to the small size and location of this project and the close coordination with state and federal agencies during preparation of the application, the 60- day timeframe in 18 CFR 4.34(b) is shortened. Instead, motions to intervene and protests, comments, terms and conditions, and recommendations are due 30 days from the issuance date of this notice. All reply comments must be filed with the Commission within 45 days from the issuance date of this notice.

The Commission strongly encourages electronic filing. Please file motions to intervene, protests, comments, and recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14680-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The proposed Natick Pond Dam Hydroelectric Project would consist of: (1) An existing 265-foot-long granite block dam with a 19.3-foot-high, 166-foot-long spillway; (2) an existing 58-foot to 125.3-foot-wide, 1-foot- to 28-foot-deep earth embankment; (3) an existing 44-foot-long, 4-foot- to 20-foot-high south granite block training wall; (4) an existing 1,244-foot-long, 18-foot- to 41.25-foot-high granite block and cobble stone north training wall; (5) an existing 4-foot-wide, 6-foot-high granite block low level outlet; (6) an existing 46.0-acre impoundment (Natick Pond) with a normal surface elevation of about 48.5 feet North American Vertical Datum of 1988; (7) a new 97-foot-long, 32.2-foot-wide, 6.6-foot-deep concrete intake channel; (8) four new 7.6-foot-high, 11.1-foot-wide steel sluice gates each with new 8.3-foot-high, 32.2-foot-wide steel trashracks with 6-inch clear bar spacing; (9) a new 20.8-foot-high, 23.7-foot-long, 27.7-foot-wide concrete powerhouse; (10) two new 12-foot-high, 92-foot-long, 28-foot-wide concrete turbine bays containing two 42.7-foot-long, 9.2-foot-diameter Archimedes screw turbine-generator units each rated at 180 kilowatts (kW) for a total installed capacity of 360 kW; (11) a new 43-foot long, 29-foot-wide, 5-foot-deep tailrace; (12) a new 54-foot-long, 4.5-foot-wide aluminum eel passage facility; (13) a new water-level sensor and automatic sluice gate controller; (14) a new 40-foot-long, 480-volt below-ground transmission line connecting the powerhouse electrical panel to a new 15-kilovolt-amp (kVA) step-up transformer connecting a new 220-foot-long, 12.47-kilovolt above-ground transmission line to National Grid's distribution system; and (15) appurtenant facilities. The estimated annual generation of the proposed Natick Pond Dam Project would be about 1,800 megawatt-hours. The applicant proposes to operate the project in a run-of-river mode. There are no federal or state lands associated with the project.

m. Due to the applicant's close coordination with federal and state agencies during the preparation of the application, completed studies during pre-filing consultation, and agency recommended preliminary terms and conditions, we intend to waive scoping and expedite the exemption process. Based on a review of the application, resource agency consultation letters including the preliminary 30(c) terms and conditions, and comments filed to date, Commission staff intends to prepare a single environmental assessment (EA). Commission staff determined that the issues that need to be addressed in its EA have been adequately identified during the pre-filing period, which included a public scoping meeting and site visit, and no new issues are likely to be identified through additional scoping. The EA will consider assessing the potential effects of project construction and operation on geology and soils, aquatic, terrestrial, threatened and endangered species, recreation and land use, aesthetic, and cultural and historic resources.

n. A copy of the application is available for review at the Commission in the Public Reference Room or may be viewed on the Commission's Web site at http://www.ferc.gov using the “eLibrary” link. Enter the docket number excluding the last three digits in the docket number field to access the document. For assistance, contact FERC Online Support. For assistance, contact FERC Online Support. A copy is also available for inspection and reproduction at the address in item h above.

You may also register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” or “TERMS AND CONDITIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. Procedural Schedule: The application will be processed according to the following procedural schedule. Revisions to the schedule may be made as appropriate.

Milestone | Target date
Notice of the availability of the EA | February 2017.

Dated: October 5, 2016.
Kimberly D. Bose,
Secretary.

[FR Doc. 2016-24604 Filed 10-7-16; 8:45 am]

BILLING CODE 6717-01-P